DEPARTMENT OF COMMERCE

National Oceanic and Atmospheric Administration

[RTID 0648-XE164]

Endangered Species; File No. 28148

AGENCY: National Marine Fisheries Service (NMFS), National Oceanic and Atmospheric Administration (NOAA), Commerce.

ACTION: Notice; receipt of application.

SUMMARY: Notice is hereby given that NMFS Pacific Islands Regional Office, 1845 Wasp Boulevard, Building 176, Honolulu, HI 96818 (Jamie Marchetti, Responsible Party), has applied in due form for a permit to take green (Chelonia mydas), hawksbill (Eretmochelys imbricata), leatherback (Dermochelys coriacea), loggerhead (Caretta caretta), and olive ridley (Lepidochelys olivacea) sea turtles for purposes of scientific research.

DATES: Written comments must be received on or before September 4, 2024.

ADDRESSES: The application and related documents are available for review by selecting “Records Open for Public Comment” from the “Features” box on the Applications and Permits for Protected Species home page, https://apps.nmfs.noaa.gov, and then selecting File No. 28148 from the list of available applications. These documents are also available upon written request via email to NMFS.Pr1Comments@noaa.gov.

Written comments on this application should be submitted via email to NMFS.Pr1Comments@noaa.gov. Please include File No. 28148 in the subject line of the email comment.

Those individuals requesting a public hearing should submit a written request via email to NMFS.Pr1Comments@noaa.gov. The request should set forth the specific reasons why a hearing on this application would be appropriate.

FOR FURTHER INFORMATION CONTACT: Erin Markin, Ph.D., or Malcolm Mohead, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant proposes to assess post-hooking survival, movements, and ecology, provide critical life history information, and genetic information to aid in the development of methods to reduce sea turtles interactions with fishing gear. The applicant proposes to conduct research on sea turtles bycaught in three longline Pacific fisheries (Hawaii Deep-Set Longline Fishery, Hawaii Shallow-Set Longline Fishery, and American Samoa Longline Fishery). Turtles may be flipper tagged, skin biopsied, satellite tagged (epoxy attachment), measured, and photographed/videoed prior to release. Biological samples may be imported from the high seas. The applicant may conduct research on the number of turtles authorized to be incidentally taken in each fishery. The permit would be valid for 5 years from the date of issuance.

Dated: July 30, 2024.
Julia M. Harrison,
Chief, Permits and Conservation Division, Office of Protected Resources, National Marine Fisheries Service.

[FR Doc. 2024-17225 Filed 8-2-24; 8:45 am]

BILLING CODE 3510-22-P